DEPARTMENT OF TRANSPORTATION

Federal Aviation Administration

14 CFR Part 71

[Docket No. FAA-2019-1011; Airspace Docket No. 19-ASO-25]

RIN 2120-AA66

Amendment of Class E Airspace; Huntsville, AL

AGENCY: Federal Aviation Administration (FAA), DOT.

ACTION: Final rule.

SUMMARY: This action amends the Class E surface airspace and the Class E airspace extending upward from 700 feet above the surface airspace legal descriptions for Huntsville, AL, by updating the airport reference for Redstone AAF, AL, to include the state identifier “AL” to coincide with the FAA's aeronautical database and comply with FAA Order 7400.2M, Procedures for Handling Airspace Matters. This action does not change the boundaries, altitudes, or operating requirements of the airspace.

DATES: Effective 0901 UTC, March 26, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class E surface airspace and the Class E airspace extending upward from 700 feet above the surface airspace legal descriptions for Huntsville, AL

History

The FAA published a Final Rule in the Federal Register (84 FR 49012; September 18, 2019) for Docket No. FAA-2019-0530 amending the Class E surface airspace and the Class E airspace extending upward from 700 feet above the surface and establishing a Class E airspace area designated as an extension to a Class C surface area at Huntsville International-Carl T. Jones Field, Huntsville, AL. In that action, the state identifier “AL” associated with Redstone AAF was inadvertently omitted from the airspace legal descriptions. This action corrects that error.

This is an administrative change updating the airport reference for Redstone AAF to include the state identified “AL” in the airspace legal descriptions to coincide with the FAA's aeronautical database and comply with FAA Order 7400.2M, and does not affect the boundaries, altitudes, or operating requirements of the airspace.

Class E airspace designations are published in paragraph 6002 and 6005 of FAA Order 7400.11D dated August 8, 2019, and effective September 15, 2019, which is incorporated by reference in 14 CFR part 71.1. The Class E airspace designations listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This action amends Title 14 Code of Federal Regulations (14 CFR) part 71 by amending the Class E surface airspace and the Class E airspace extending upward from 700 feet above the surface airspace legal descriptions for Huntsville, AL, by updating the airport references for Redstone AAF to include the state identifier “AL” to coincide with the FAA's aeronautical database and comply with FAA Order 7400.2M.

Section 553(b)(3)(B) of the Administrative Procedures Act (5. U.S.C.) authorizes agencies to dispense with notice and comment procedure when the agency for “good cause” finds that these procedures are “impracticable, unnecessary, or contrary to the public interest.” This is an administrative change amending the name of Redstone AAF, AL, to coincide with the FAA's aeronautical database and comply with FAA Order 7400.2M and does not affect the boundaries, altitudes, or operating requirements of the airspace; therefore, notice and public procedure under 5 U.S.C. 553(b) are unnecessary.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (Air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, effective September 15, 2019, is amended as follows:

Paragraph 6002 Class E Airspace Areas Designated as a Surface Area.

* * * * *

ASO AL E2 Huntsville, AL [Amended]

Huntsville International-Carl T. Jones Field, AL

(Lat. 34°38′14″ N, long. 86°46′30″ W)

Redstone AAF, AL

(Lat. 34°40′43″ N, long. 86°41′05″ W)

Within a 5-mile radius of the Huntsville International-Carl T. Jones Field, excluding that airspace within a 1-mile radius of the Redstone AAF. This Class E airspace area is effective during the specific dates and times established in advance by a Notice to Airmen. The effective date and time will thereafter be continuously published in the Chart Supplement.

Paragraph 6005 Class E Airspace Areas Extending Upward From 700 Feet or More Above the Surface of the Earth.

* * * * *

ASO AL E5 Huntsville, AL [Amended]

Huntsville International-Carl T. Jones Field, AL

(Lat. 34°38′14″ N, long. 86°46′30″ W)

Huntsville International-Carl T. Jones Field: RWY 36L-LOC

(Lat. 34°39′20″ N, long. 86°46′55″ W)

Redstone AAF, AL

(Lat. 34°40′43″ N, long. 86°41′05″ W)

Pryor Field Regional Airport, AL

(Lat. 34°39′15″ N, long. 86°56′43″ W)

Huntsville Executive Tom Sharp Jr. Field, AL

(Lat. 34°51′34″ N, long. 86°33′27″ W)

That airspace extending upward from 700 feet above the surface within a 7.5-mile radius of Huntsville International-Carl T. Jones Field, and within 3 miles each side of the 001° bearing from Huntsville International-Carl T. Jones Field extending from the 7.5-mile radius to 12.3 miles north of Huntsville International-Carl T. Jones Field, and within 1.3 miles each side of the 181° bearing from the Huntsville International-Carl T. Jones Field: RWY 36L-LOC extending from the 7.5 mile radius of Huntsville International-Carl T. Jones Field to 8.3 miles south of the Huntsville International-Carl T. Jones Field: RWY 36L-LOC, and within a 9.5-mile radius of Redstone AAF, and within a 7-mile radius of Pryor Field Regional Airport, and within a 6.3-mile radius of Huntsville Executive Tom Sharp Jr. Field.

Issued in Fort Worth, Texas, on January 22, 2020.
Steve Szukala,
Acting Manager, Operations Support Group, ATO Central Service Center.

[FR Doc. 2020-01567 Filed 1-29-20; 8:45 am]

BILLING CODE 4910-13-P